DEPARTMENT OF COMMERCE

National Oceanic and Atmospheric Administration

[RTID 0648-XD638]

Endangered and Threatened Species; Take of Anadromous Fish

AGENCY: National Marine Fisheries Service (NMFS), National Oceanic and Atmospheric Administration (NOAA), Commerce.

ACTION: Withdrawal of notice of intent to prepare an environmental impact statement.

SUMMARY: NMFS is issuing this notice to advise Federal, state, and local government agencies and the public of withdrawal of the Notice of Intent (NOI) to prepare an Environmental Impact Statement (EIS) for the proposed operation of salmon hatchery programs in the Nooksack River Basin in Washington.

FOR FURTHER INFORMATION CONTACT: Morgan Robinson, Lacey, WA (phone: 253-307-2670, email: morgan.robinson@noaa.gov).

SUPPLEMENTARY INFORMATION: NMFS published a NOI in the Federal Register on June 20, 2016 (81 FR 39911) to prepare an EIS in accordance with the National Environmental Policy Act (NEPA) to analyze the impacts on the human environment resulting from the operation of salmon hatchery programs in the Nooksack River Basin in Washington. NMFS hereby advises the public of the rescission of this NOI. This change occurred because the proposed hatchery and genetic management plans jointly submitted by the Washington Department of Fish and Wildlife, the Lummi Nation, the Nooksack Indian Tribe, the Upper Skagit Indian Tribe, and the Swinomish Indian Tribal Community as co-managers were withdrawn since the NOI was published.

Any future hatchery and genetic management plans submitted by the above parties to NMFS will comply with the environmental review requirements of NEPA.

Dated: January 8, 2024.
Angela Somma,
Chief, Endangered Species Division, Office of Protected Resources, National Marine Fisheries Service.

[FR Doc. 2024-00473 Filed 1-10-24; 8:45 am]

BILLING CODE 3510-22-P